DEPARTMENT OF ENERGY

Federal Energy Regulatory Commission

[Project No. 2144-038]

City of Seattle; Notice of Application Accepted for Filing and Soliciting Motions To Intervene and Protests

October 28, 2009.

Take notice that the following hydroelectric application has been filed with the Commission and is available for public inspection.

a. Type of Application: New Major License.

b. Project No.: 2144-038.

c. Date Filed: September 29, 2009.

d. Applicant: City of Seattle.

e. Name of Project: Boundary Hydroelectric Project

f. Location: The existing project is located on the Pend Oreille River in Pend Oreille County, Washington. The project currently occupies 920.87 acres of Federal land managed by the U.S. Forest Service and U.S. Bureau of Land Management.

g. Filed Pursuant to: Federal Power Act 16 USC 791 (a)-825(r).

h. Agent Contact: Jorge Carrasco, Superintendent, Seattle City Light, 700 Fifth Avenue, Suite 3200, Seattle, WA 98124-4023; (206) 615-1091.

i. FERC Contact: David Turner (202) 502-6091.

j. The deadline for filing motions to intervene and protests is December 28, 2009.

All documents may be filed electronically via the Internet. See 18 CFR 385.2001(a)(1)(iii) and the instructions on the Commission's Web site (http://www.ferc.gov/docs-filing/ferconline.asp) under the “eFiling” link. For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted, but is not ready for environmental analysis at this time.

l. Project Description: The existing project consists of: (1) A concrete arch dam with a crest elevation of 2,004 feet NGVD (North American Vertical Datum), a structural height of 340 feet, a thickness ranging from 8 feet at the crest to 32 feet at the base, and a crest length of 508 feet, with a total length, including the spillways, of 740 feet; (2) two 50-feet-wide spillways fitted with 45-feet-high radial gates, one on each abutment, which have a combined maximum capacity of 108,000 cubic feet per second (cfs) at a forebay water surface elevation of 1994 feet NGVD; (3) seven 21-foot-high by 17-foot-wide, low-level vertical fixed-wheel sluice gates that provide an additional discharge capacity of 252,000 cfs, for a total discharge capacity at the dam of 360,000 cfs; (4) a 17.5-mile-long, 1,794-acre reservoir at a normal full pool elevation of 1,994 feet NGVD with 87,913 acre-feet of gross storage; (5) power intake facilities excavated on the left abutment area consisting of an approximately 300-foot-wide by 800-foot-long forebay, a trash rack structure across the entrance to the forebay, and the portal face with six 30-foot-wide by 34-foot-high horseshoe-shaped tunnels extending to intake gate chambers; (6) six 315-feet-long penstocks lead from each of the intake gates to one of the six turbine-generator units in the power plant; (7) an underground power plant comprised of a 76-feet wide by 172-feet-high by 477-feet-long machine hall; (8) two 204,506-horsepower (hp) Francis turbines, with 158.4-megawatt (MW) generators, two 204,506-hp Francis turbines, with 161.5-MW generators, and two 259,823-hp Francis turbines, with 200-MW generators for a total authorized generating capacity of 1,003 MW; (9) six draft tubes that discharge water into the tailrace immediately below the dam; (10) six horseshoe-shaped transformer bays; (11) six individual three-phase, 230-kilovolt (kV) transmission lines up the vertical face of the left abutment of the dam to six pairs of transmission towers on top of the abutment; and (12) appurtenant equipment. The applicant proposes to install new high efficiency turbines in Units 55 and 56, concurrently with planned generator rewinds and step-up transformer replacements.

m. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

Register online at http://www.ferc.gov/docs-filing/esubscription.asp to be notified via e-mail of new filings and issuances related to this or other pending projects. For assistance, contact FERC Online Support.

n. Anyone may submit a protest or a motion to intervene in accordance with the requirements of Rules of Practice and Procedure, 18 CFR 385.210, .211, .214. In determining the appropriate action to take, the Commission will consider all protests filed, but only those who file a motion to intervene in accordance with the Commission's Rules may become a party to the proceeding. Any protests or motions to intervene must be received on or before the specified comment date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural Schedule: See tendering notice issued on October 8, 2009.

Kimberly D. Bose,
Secretary.

[FR Doc. E9-26474 Filed 11-3-09; 8:45 am]

BILLING CODE 6717-01-P